DEPARTMENT OF THE TREASURY

Internal Revenue Service

Federally Funded Research and Development Center

AGENCY: Internal Revenue Service (IRS), Treasury. National Office Procurement.

ACTION: Notice.

SUMMARY: The Internal Revenue Service (IRS) and The Department of Veterans Affairs (VA) executed a Memorandum of Understanding (MOU) on February 7, 2008 to designate VA as a Co-Sponsor of the Federally Funded Research and Development Center (FFRDC), titled The Center for Enterprise Modernization (CEM). CEM is operated by The MITRE Corporation (MITRE). IRS remains the primary sponsor of this enterprise systems engineering and integration FFRDC; VA is a Co-Sponsor.

VA has determined that it requires an FFRDC mission partner to assist in the achievement of its strategic and business enterprise modernization goals and the IRS FFRDC meets this need.

DATES: The Agency must receive comments on or before June 26, 2008.

ADDRESSES: Comments may be submitted by one of the following methods: Mail to: 6009 Oxon Hill Road, Suite 500, Oxon Hill, MD, attn: Carol Gentry, subject: Co-Sponsor Comments, or e-mail to Carol.A.Gentry@irs.gov, subject: Co-Sponsor Comments.

FOR FURTHER INFORMATION CONTACT: For further information contact Carol Gentry at Carol.A.Gentry@irs.gov.

Carol A. Gentry,
Contracting Officer, Internal Revenue Service.

[FR Doc. E8-11654 Filed 5-23-08; 8:45 am]

BILLING CODE 4830-01-P